DEPARTMENT OF VETERANS AFFAIRS

[OMB Control No. 2900-0098]

Agency Information Collection Activity Under OMB Review: Dependents' Application for VA Education Benefits

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before July 9, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0098” in any correspondence.

FOR FURTHER INFORMATION CONTACT: Cynthia Harvey-Pryor, Office of Quality, Privacy and Risk (OQPR), Department of Veterans Affairs, 810 Vermont Avenue NW, Washington, DC 20420, (202) 461-5870 or email Cynthia.Harvey-Pryor@va.gov. Please refer to “OMB Control No. 2900-0098” in any correspondence.

SUPPLEMENTARY INFORMATION:

Authority: 38 U.S.C. 3311 (as amended by P.L. 113-146, section 701, effective August 7, 2014), 3513, 3697A, 5113, 5101, 5102, and 5103, 38 CFR 21.3030 and 21.9510.

Title: Dependents' Application for VA Education Benefits.

OMB Control Number: 2900-0098.

Type of Review: Extension of a currently approved collection.

Abstract: VA claims examiners use the information from this collection to help determine whether an applying individual qualifies for DEA or Fry Scholarship benefits. The information will also be used to determine if the program of education the applicant wishes to pursue is approved for educational assistance. The form is used to obtain the necessary information from the claimant, and a determination cannot be made without this information.

An agency may not conduct or sponsor, and a person is not required to respond to a collection of information unless it displays a currently valid OMB control number. The Federal Register Notice with a 60-day comment period soliciting comments on this collection of information was published at 83 FR 03908 on February 27, 2018, pages 8572 and 8573.

Affected Public: Individuals or Households.

Estimate: Annual Burden: 29,739 hours.

Estimated Average Burden per Respondent = 45 and 25 min (paper and electronic, respectively).

Frequency of Response: one-time.

Estimated Number of Respondents: 50,981.

By direction of the Secretary.
Cynthia D. Harvey-Pryor,
Department Clearance Officer, Office of Quality, Privacy and Risk, Department of Veterans Affairs.

[FR Doc. 2018-12330 Filed 6-7-18; 8:45 am]

BILLING CODE 8320-01-P